OFFICE OF THE UNITED STATES TRADE REPRESENTATIVE

Notice of Effective Date

AGENCY: Office of the United States Trade Representative.

ACTION: Notice of effective date for goods of Canada for certain modifications of the NAFTA Rules of Origin.

SUMMARY: In Proclamation 8323 of November 25, 2008, the President modified the rules of origin for certain goods of Canada under the North American Free Trade Agreement (NAFTA) incorporated in the Harmonized Tariff Schedule of the United States (the “HTS”). The proclamation stated that the modifications would be effective on the date that the United States Trade Representative (USTR) announced in the Federal Register and are effective with respect to goods of Canada that are entered, or withdrawn from warehouse for consumption, on or after the date indicated in the notice. The purpose of this notice is to announce that the effective date for the modifications is July 1, 2009. The changes were printed in the Federal Register of November 28, 2008, Volume 73, Number 230, page 72,682.

FOR FURTHER INFORMATION CONTACT: For further information, please contact Caroyl Miller, Deputy Textile Negotiator, Office of the United States Trade Representative, 600 17th Street, NW., Washington, DC 20508, fax number (202) 395-5639.

SUPPLEMENTARY INFORMATION: Presidential Proclamation 6641 of December 15, 1993, implemented the NAFTA with respect to the United States and, pursuant to the North American Free Trade Agreement Implementation Act (Pub.L. 103-182) (the “NAFTA Implementation Act”), incorporated in the HTS the tariff modifications and rules of origin necessary or appropriate to carry out the NAFTA. Section 202 of the NAFTA Implementation Act (19 U.S.C. 3332) provides rules for determining whether goods imported into the United States originate in the territory of a NAFTA country and thus are eligible for the tariff and other treatment contemplated under the NAFTA. Section 202(q) of the NAFTA Implementation Act (19 U.S.C. 3332(q)) authorizes the President to proclaim, as a part of the HTS, the rules of origin set out in the NAFTA and to proclaim modifications to such previously proclaimed rules of origin, subject to the consultation and layover requirements of section 103(a) of the NAFTA Implementation Act (19 U.S.C. 3313(a)).

The President determined that the modifications to the HTS contained in Proclamation 8323 pursuant to sections 201 and 202 of the NAFTA Implementation Act were appropriate and proclaimed such changes with respect to goods of Canada and modified general note 12 to the HTS. The proclamation further provides that the effective date of the modifications shall be on the date that the USTR announces in a notice published in the Federal Register. The modifications are effective with respect to goods of Canada entered or withdrawn from warehouse for consumption on the date indicated in this notice.

On May 27, 2008, the government of Canada notified the U.S. government that it had obtained the necessary authorization to implement the rule of origin changes with respect to goods of the United States. Subsequently, officials of the government of Canada and the Government of the United States agreed to implement these changes with respect to each other's eligible goods, effective July 1, 2009.

Ronald Kirk,
United States Trade Representative.

[FR Doc. E9-15046 Filed 6-25-09; 8:45 am]

BILLING CODE 3190-W9-P